DEPARTMENT OF TRANSPORTATION

Office of the Secretary

National Advisory Committee on Travel and Tourism Infrastructure; Solicitation for Committee Member Nominations

AGENCY: Department of Transportation.

ACTION: Notice.

SUMMARY: The Department of Transportation seeks member nomination for our National Advisory Committee on Travel and Tourism Infrastructure (NACTTI).

DATES: All nominations for NACTTI membership must be received on or before July 13, 2016.

ADDRESSES: All nomination material should be emailed to the Office of the Secretary at: NACTTI@dot.gov, or mailed to: U.S. Department of Transportation, Office of the Secretary, Attn: National Advisory Committee on Travel and Tourism Infrastructure, Room W86-483, 1200 New Jersey Ave. SE., Washington, DC 20590. Mailed applications must be postmarked by July 13, 2016.

Any person requiring accessibility accommodations should contact the Office of the Secretary at (202) 366-5903 or email the NACTTI Designated Federal Official at NACTTI@dot.gov.

FOR FURTHER INFORMATION CONTACT: NACTTI Designated Federal Official, at NACTTI@dot.gov or (202) 366-5903. Also visit the NACTTI Internet Web site at www.transportation.gov/NACTTI.

SUPPLEMENTARY INFORMATION:

I. Background

Pursuant to Section 1431 of the Fixing America's Surface Transportation (FAST) Act, the Secretary of Transportation established NACTTI on June 1, 2016, to provide information, advice, and recommendations to the Secretary on matters relating to the role of intermodal transportation in facilitating mobility related to travel and tourism activities. NACTTI will—

a. Advise the Secretary on current and emerging priorities, issues, projects, and funding needs related to the use of the intermodal transportation network of the United States to facilitate travel and tourism, taking into consideration existing data and recommendations on the U.S. transportation network including, but not limited, to DOT's 30-year Beyond Traffic framework.

b. Serve as a forum for discussion for travel and tourism stakeholders on transportation issues affecting interstate and interregional mobility of passengers;

c. Promote the sharing of information between the private and public sectors on transportation issues impacting travel and tourism;

d. Gather information, develop technical advice, and make recommendations to the Secretary on policies that improve the condition and performance of an integrated national transportation system that—

• Is safe, economical, and efficient; and

• maximizes the benefits to the United States generated through the travel and tourism industry;

e. Identify critical transportation facilities and corridors that facilitate and support the interstate and interregional transportation of passengers for tourism, commercial, and recreational activities;

f. Provide for development of measures of condition, safety, and performance for transportation related to travel and tourism;

g. Provide for development of transportation investment, data, and planning tools to assist Federal, State, and local officials in making investment decisions relating to transportation projects that improve travel and tourism; and

h. Address other issues of transportation policy and programs impacting the movement of travelers for tourism and recreational purposes, including by making legislative recommendations.

II. Committee Membership

NACTTI shall be composed of no more than 25 members, each of whom shall be appointed by the Secretary of Transportation for a 2-year term. The membership shall include public and private sector stakeholders involved in the transportation and travel and tourism industries including, but not limited to:

• The travel and tourism industry, product and service providers;

• Travel and tourism-related associations;

• Travel, tourism, and destination marketing organizations;

• The travel and tourism-related workforce;

• State tourism offices;

• State departments of transportation;

• Regional and metropolitan planning organizations;

• Local governments;

• Organizations with expertise in intermodal connectivity for travel and tourism; and

• Entities with expertise in public-private-partnerships (P3).

The Department shall establish a Chair and Vice Chair of the Advisory Committee from among those selected representatives.

III. Member Selection

A selection team comprised of representatives from several DOT operating administrations will review nomination packages. The selection team will make recommendations regarding membership to the Secretary of Transportation based on criteria including, but not limited to:

• Professional or academic expertise, experience, and knowledge;

• Stakeholder representation;

• Availability and willingness to serve; and

• Experience and skills working collaboratively on committees and advisory panels.

Additional factors which will be considered in the selection of NACTTI members include candidates' proven experience in the strategic development and management of travel, tourism, transportation-related or other service-related organizations; or the candidate's proven experience in promoting, developing, and implementing advertising, marketing, or financial programs for travel, tourism or transportation-related industries.

Priority may be given to a Chief Executive Officer, Executive Director, or President (or comparable level of responsibility) of a U.S. company, U.S. organization, or U.S. entity in the travel, tourism, or transportation sectors.

Each NACTTI member shall serve as the representative of a U.S. entity engaged in any of the above-listed activities.

Members shall serve in a representative capacity, representing the views and interests of their particular industry subsector. NACTTI members are not Special Government Employees, and will receive no compensation for their participation in NACTTI activities. Members participating in NACTTI meetings and events will be responsible for their travel, living and other personal expenses. Meetings will be held regularly and, to the extent practical, not less than twice annually, usually in Washington, DC.

IV. Nomination Information

For immediate consideration for membership, please provide the following information by the Wednesday, July 13, 2016, deadline to the address listed in the ADDRESSES section:

1. Name, title, and relevant contact information (including phone, fax, and email address) of the individual under consideration;

2. The company's, organization's, or entity's size, product or service line, and major markets in which the company, organization, or entity operates.

3. A letter of support or recommendation letter, on letterhead, from a company, union, trade or membership association, or non-profit organization containing a brief description of why the nominee should be considered for membership;

4. A one-page cover letter summarizing the applicant's unique experiences and qualifications, any professional and academic credentials, and the reason(s) why he or she would like to join NACTTI.

5. A resume for the individual under consideration.

Please do not send company, trade association, organization brochures or any other promotional information. Materials submitted should total five pages or less and must be in 12-point font, formatted in Microsoft Word or PDF. Should more information be needed, DOT staff will contact the nominee, obtain information from the nominee's past affiliations, or obtain information from publicly available sources, such as the Internet.

Dated: June 22, 2016.
Jenny T. Rosenberg,
Acting Assistant Secretary for Aviation and International Affairs.

[FR Doc. 2016-15285 Filed 6-27-16; 4:15 pm]

BILLING CODE 4910-9X-P